DEPARTMENT OF ENERGY

Federal Energy Regulatory Commission

[Docket No. RP98-53-023]

Kinder Morgan Interstate Gas Transmission LLC; Notice of Refund Report

July 26, 2000.

Take notice that on May 18, 2000, Kinder Morgan Interstate Gas Transmission LLC (KMIGT) tendered for filing its refund report in the above-referenced docket pursuant to the Commission's Order Denying Petitions for Adjustment and Establishing Procedures for the Payment of Refunds for Kansas Ad Valorem Taxes dated September 10, 1997 (September 10, 1997 Order).

KMIGT states that the refund report summarizes the amounts received from producers or royalty owners by KMIGT through April 30, 2000, for Kansas ad valorem tax overpayments for the period October 4, 1983, through June 28, 1988. KMIGT states that the refund report also shows how KMIGT distributed these refunds to its former FERC-jurisdictional customers. In instances where payment has not been made within 30 days of receipt from producers, appropriate interest has been computed as provided for in the Order.

KMIGT states that copies of KMIGT's filing have been served on KMIGT's former FERC-jurisdictional customers, interested state commissions, and all parties to the proceeding.

Any person desiring to protest said filing should file a protest with the Federal Energy Regulatory Commission, 888 First Street, N.E., Washington, D.C. 20426, in accordance with Section 385.211 of the Commission's Rules and Regulations. All such protests must be filed on or before August 2, 2000. Protests will be considered by the commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-19318 Filed 7-31-00; 8:45 am]

BILLING CODE 6717-01-M